DEPARTMENT OF AGRICULTURE

Animal and Plant Health Inspection Service

[Docket No. 00-020-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the regulations requiring permits for movement of restricted animals.

DATES: We invite you to comment on this docket. We will consider all comments that we receive by June 6, 2000.

ADDRESSES: Please send your comment and three copies to: Docket No. 00-020-1, Regulatory Analysis and Development, PPD, APHIS, Suite 3C03, 4700 River Road, Unit 118, Riverdale, MD 20737-1238.

Please state that your comment refers to Docket No. 00-020-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the regulations requiring permits for movement of restricted animals, contact Dr. Diane Sutton, Senior Staff Veterinarian, National Animal Health Programs Staff, VS, APHIS, 4700 River Road Unit 43, Riverdale, MD 20737; (301) 734-7709. For copies of more detailed information on the information collection, contact Ms. Celeste Sickles, APHIS' Information Collection Coordinator, at (301) 734-7477.

SUPPLEMENTARY INFORMATION: Title: Permit for Movement of Restricted Animals.

OMB Number: 0579-0051.

Expiration Date of Approval: April 30, 2000.

Type of Request: Extension of approval of an information collection.

Abstract: The United States Department of Agriculture is responsible for preventing the spread of contagious, infectious, or communicable animal diseases from one State to another and for eradicating such diseases from the United States. In connection with this mission, the Animal and Plant Health Inspection Service, Veterinary Services, carefully monitors animals which either have, or have been exposed to, diseases of quarantine significance as these animals are transported to appropriate slaughtering facilities.

When farm animals (such as cattle, swine, sheep, or horses) become sick or have been exposed to a disease of quarantine significance, it is important that they be removed promptly from the farm to prevent exposing and infecting other animals. In such situations, the owner of sick or exposed animals may have the animals transported from the farm to a slaughtering establishment. When this movement requires animals to be transported across State lines, the owner is required to complete a “Permit for Movement of Restricted Animals,” also known as VS Form 1-27.

It is imperative that these animals not be removed from the vehicle during transport or be otherwise diverted from their destination, since such an event could result in the spread of a disease of quarantine significance among healthy animals. VS Form 1-27, which is completed by specified personnel at the farm of origin and again at the point of destination, is our primary means of ensuring that these animals move directly from the farm to the slaughtering establishment.

We are asking the Office of Management and Budget (OMB) to approve our use of this information collection activity for an additional 3 years.

The purpose of this notice is to solicit comments from the public (as well as affected agencies) concerning this information collection. We need this outside input to help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average .05 hours per response.

Respondents: State field personnel, accredited veterinarians, meat inspectors, animal health technicians, and other regulated entities, including owners of cattle, swine, horses, sheep, and goats.

Estimated annual number of respondents: 3,847.

Estimated annual number of responses per respondent: 2.5258.

Estimated annual number of responses: 9,717.

Estimated total annual burden on respondents: 740 hours. (Due to rounding, the total annual burden hours may not equal the product of the annual number of responses multiplied by the average reporting burden per response.)

All responses to this notice will be summarized and included in the request for OMB approval. All comments will also become a matter of public record.

Done in Washington, DC, this 3rd day of April 2000.
Bobby R. Acord,
Acting Administrator, Animal and Plant Health Inspection Service.

[FR Doc. 00-8680 Filed 4-6-00; 8:45 am]

BILLING CODE 3410-34-U